NUCLEAR REGULATORY COMMISSION

[Docket Nos. 50-237 and 50-249]

Exelon Generation Company, LLC; Notice of Consideration of Issuance of Amendment to Facility Operating License and Opportunity for a Hearing

The U.S. Nuclear Regulatory Commission (the Commission) is considering issuance of an amendment to Facility Operating License No. DPR-19 and DPR-25, issued to Exelon Generation Company, LLC, (EGC, or the licensee, formerly Commonwealth Edison Company), for operation of the Dresden Nuclear Power Station, Units 2 and 3 (Dresden), respectively, located in Grundy County, Illinois.

The proposed amendment, requested by application dated March 3, 2000, as supplemented by letters dated March 24, June 5, July 18, July 31, September 1, September 22, October 5, October 9, November 20, November 30, and December 18, 2000, would be a full conversion from the current Technical Specifications (CTS) to a set of improved Technical Specifications (ITS) based on NUREG-1433, “Standard Technical Specifications—General Electric Plants, BWR/4,” Revision 1, dated April 1995. NUREG-1433 has been developed by the Commission's staff through working groups composed of both Nuclear Regulatory Commission (NRC) staff members and industry representatives, and has been endorsed by the staff as part of an industry-wide initiative to standardize and improve the Technical Specifications (TS) for nuclear power plants. As part of this submittal, the licensee has applied the criteria contained in the Commission's “Final Policy Statement on Technical Specification Improvements for Nuclear Power Reactors (Final Policy Statement),” published in the Federal Register on July 22, 1993 (58 FR 39132), to the CTS, and, using NUREG-1433 as a basis, proposed a conversion to ITS for Dresden. The criteria in the Final Policy Statement were subsequently added to 10 CFR 50.36, “Technical Specifications,” in a rule change that was published in the Federal Register on July 19, 1995 (60 FR 36953). The rule change became effective on August 18, 1995.

The March 3, 2000, application, as supplemented, requested the conversion to ITS of six EGC stations, Dresden Nuclear Power Station, Units 2 and 3, LaSalle County Station, Units 1 and 2, and Quad Cities Nuclear Power Station, Units 1 and 2. Attachment 1 to the March 3, 2000, application describes the structure of the application, and Enclosure A contains the Dresden-specific changes.

The licensee has categorized the proposed changes to the CTS into four general groupings. These groupings are characterized as administrative changes, relocation changes, more restrictive changes, and less restrictive changes.

Administrative changes are those that involve restructuring, renumbering, rewording, interpretation, and complex rearranging of requirements and other changes not affecting technical content or substantially revising an operating requirement. The reformatting, renumbering and rewording process reflects the attributes of NUREG-1433 and does not involve technical changes to the existing TS. The proposed changes include: (a) identifying plant-specific wording for system names, etc., (b) changing the wording of specification titles in the CTS to conform to STS, (c) splitting up requirements that are currently grouped, or combining requirements that are currently in separate specifications, (d) deleting specifications whose applicability has expired, and (e) wording changes that are consistent with the CTS but that more clearly or explicitly state existing requirements. Such changes are administrative in nature and do not impact initiators of analyzed events or assumed mitigation of accident or transient events.

Relocation changes are those involving relocation of requirements and surveillances for structures, systems, components, or variables that do not meet the criteria for inclusion in TS. Relocated changes are those CTS requirements that do not satisfy or fall within any of the four criteria specified in the Commission's policy statement and may be relocated to appropriate licensee-controlled documents.

The licensee's application of the screening criteria to Dresden is described in Volume 1 of Enclosure A to the March 3, 2000, submittal. The affected structures, systems, components, or variables are not assumed to be initiators of analyzed events and are not assumed to mitigate accident or transient events. The requirements and surveillances for these affected structures, systems, components, or variables will be relocated from the TS to administratively controlled documents such as the Quality Assurance Program, the Updated Final Safety Analysis Report (UFSAR), the ITS Bases, the Technical Requirements Manual (TRM) (that is incorporated by reference in the UFSAR), the Core Operating Limits Report (COLR), the Offsite Dose Calculation Manual (ODCM), the Inservice Testing (IST) Program, the Inservice Inspection (ISI) Program, or other licensee-controlled documents. Changes made to these documents will be made pursuant to 10 CFR 50.59 or other appropriate control mechanisms, and may be made without prior NRC review and approval. In addition, the affected structures, systems, components, or variables are addressed in existing surveillance procedures that are also subject to 10 CFR 50.59. These proposed changes will not impose or eliminate any requirements.

More restrictive changes are those involving more stringent requirements compared to the CTS for operation of the facility. These more stringent requirements do not result in operation that will alter assumptions relative to the mitigation of an accident or transient event. The more restrictive requirements will not alter the operation of process variables, structures, systems, and components described in the safety analyses.

Less restrictive changes are those where CTS requirements are relaxed, relocated or eliminated, or new plant operational flexibility is provided. The more significant “less restrictive” requirements are justified on a case-by-case basis. When requirements have been shown to provide little or no safety benefit, their removal from the TS may be appropriate. In most cases, relaxations previously granted to individual plants on a plant-specific basis were the result of (a) generic NRC actions, (b) new NRC staff positions that have evolved from technological advancements and operating experience, or (c) resolution of the Owners Groups' comments on the Improved Standard Technical Specifications. Generic relaxations contained in NUREG-1433 were reviewed by the staff and found to be acceptable because they are consistent with current licensing practices and NRC regulations. The licensee's design will be reviewed to determine if the specific design basis and licensing basis are consistent with the technical basis for the model requirements in NUREG-1433, thus, providing a basis for these revised TS, or if relaxation of the requirements in the CTS is warranted based on the justification provided by the licensee.

These administrative, relocation, more restrictive, and less restrictive changes to the requirements of the CTS do not result in operations that will alter assumptions relative to mitigation of an analyzed accident or transient event.

In addition to the proposed changes solely involving the conversion, there are also changes proposed that are differences to the requirements in both the CTS and the Standard Technical Specifications (NUREG-1433), and changes that are in addition to those changes that are needed to meet the overall purpose of the conversion. These proposed changes are as follows:

1. The test interval of certain surveillance requirements is changed from 18 months to 24 months to permit a longer fuel cycle. Justification for the proposed change follows the guidance of Generic Letter 91-04, “Changes in Technical Specification Surveillance Intervals to Accommodate a 24-Month Fuel Cycle,” and includes a revision to the instrument setpoint methodology.

2. The requirements in CTS 4.2.F are changed to allow 6 hours to perform surveillance testing of the post-accident monitoring instrumentation channels prior to entering action statements.

3. The reactor power level at which the rod worth minimizer is required to be operable (CTS 3.3.L) is reduced from 20 percent to 10 percent of rated thermal power.

4. The requirements (CTS 3.9.G) for the reactor protection system electric power monitoring system assemblies to be operable in Modes 1, 2, 3, and also Modes 4 and 5 with any control rod withdrawn, are changed to only include Modes 1 and 2, and also Mode 5 with any control rod withdrawn from a core cell containing one of more fuel assemblies, to coincide with the conditions where the safety function is required.

5. The requirement (CTS 3.6.C Action 2) to trip one of the recirculation pumps when the speed mismatch is not within limits is replaced with a requirement to declare the loop with the low flow “not in operation” and take the required actions for that condition (e.g., use the more restrictive core power limits that are required for single loop operation).

6. The frequency for monitoring primary containment sump flow rate (CTS 4.6.H.2) is changed from 8 to 12 hours, which is consistent with the Generic Letter 88-01, Supplement 1, requirements to perform the surveillance once every shift, not to exceed 12 hours.

7. The CTS 3.5.A requirement to shutdown within 7 days when both low-pressure coolant injection subsystems are inoperable is being changed to require a shutdown in 72 hours.

8. The required number of operable automatic depressurization system valves (CTS 3.5.A.4) is reduced from five to four, consistent with the safety analysis assumptions.

9. The required volume of water in the condensate storage tank in Modes 4 and 5 (CTS 3.5.B.1.a.2, 3.5.B.2.b.2, and 3.5.C.2.c) is reduced from 140,000 gallons to 50,000 gallons.

10. The CTS 4.7.D.4 requirement that the excess flow check valves must “check flow” is changed to require that the valves “actuate to their isolation position.”

11. The required spent fuel storage pool water level (CTS 3.10.H) is increased approximately 9 inches.

12. The required load during the diesel generator surveillance tests (CTS 4.9.A.2.d, 4.9.A.8.c, and 4.9.A.8.h) is changed to permit the diesel generator to run from 90-100 percent of the continuous load rating instead of 95-100 percent of the continuous load rating.

13. The required voltage during the diesel generator surveillance tests (CTS 4.9.A.2.c, 4.9.A.7, 4.9.A.8.b, 4.9.A.8.d.2, 4.9.A.8.e, 4.9.A.8.f.2, and 4.9.A.8.h) is changed from 4160 plus or minus 420 volts to 4160 plus or minus 208 volts.

Before issuance of the proposed license amendment, the Commission will have made findings required by the Atomic Energy Act of 1954, as amended (the Act) and the Commission's regulations.

By March 19, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR Part 2.714 which is available at the Commission's Public Document Room, located at One White Flint North, 11555 Rockville Pike (first floor), Rockville, Maryland and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR Part 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Mr. Edward J. Cullen, Vice President, General Council, 300 Exelon Way, Kennett Square, Pennsylvania 19348, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR Parts 2.714(a)(1)(i)-(v) and 2.714(d).

If a request for a hearing is received, the Commission's staff may issue the amendment after it completes its technical review and prior to the completion of any required hearing if it publishes a further notice for public comment of its proposed finding of no significant hazards consideration in accordance with 10 CFR Parts 50.91 and 50.92.

For further details with respect to this action, see the application for amendment dated March 3, 2000, as supplemented by letters dated March 24, June 5, July 18, July 31, September 1, September 22, October 5, October 9, November 20, November 30, and December 18, 2000, which is available for public inspection at the Commission's Public Document Room, located at One White Flint North, 11555 Rockville Pike (first floor), Rockville, Maryland, and accessible electronically through the ADAMS Public Electronic Reading Room link at the NRC Web site (http://www.nrc.gov).

Dated at Rockville, Maryland, this 13th day of February, 2001.
For the Nuclear Regulatory Commission.
Lawrence W. Rossbach,
Project Manager, Section 2, Project Directorate III, Division of Licensing Project Management, Office of Nuclear Reactor Regulation.

[FR Doc. 01-3951 Filed 2-15-01; 8:45 am]

BILLING CODE 7590-01-P